DEPARTMENT OF ENERGY

Federal Energy Regulatory Commission

Combined Notice of Filings # 1

Take notice that the Commission received the following electric corporate filings:

Docket Numbers: EC23-114-000.

Applicants: Blythe Mesa Solar II, LLC, IP Oberon, LLC, IP Oberon II, LLC.

Description: Joint Application for Authorization Under Section 203 of the Federal Power Act of Blythe Mesa Solar II, LLC, et al.

Filed Date: 8/8/23.

Accession Number: 20230808-5136.

Comment Date: 5 p.m. ET 8/29/23.

Take notice that the Commission received the following electric rate filings:

Docket Numbers: ER23-2359-001.

Applicants: PJM Interconnection, L.L.C.

Description: Tariff Amendment: Amendment to ISA/CSA SA Nos. 6967 & 6968; Queue AD2-100/131—Docket No. ER23-2359 to be effective 9/6/2023.

Filed Date: 8/10/23.

Accession Number: 20230810-5056.

Comment Date: 5 p.m. ET 8/31/23.

Docket Numbers: ER23-2442-001.

Applicants: PJM Interconnection, L.L.C.

Description: Tariff Amendment: Amendment to WMPA, SA No. 7022; Queue No. AG1-478—Docket No. ER23-2442 to be effective 9/18/2023.

Filed Date: 8/10/23.

Accession Number: 20230810-5015.

Comment Date: 5 p.m. ET 8/31/23.

Docket Numbers: ER23-2596-000.

Applicants: Dairyland Power Cooperative, South Shore Energy, LLC, Nemadji River Generation, LLC.

Description: Request for Limited Waiver, et al. of South Shore Energy, LLC.

Filed Date: 8/9/23.

Accession Number: 20230809-5106.

Comment Date: 5 p.m. ET 8/30/23.

Docket Numbers: ER23-2600-000.

Applicants: PJM Interconnection, L.L.C.

Description: § 205(d) Rate Filing: Revisions to Posting of Information Relevant to RPM Auctions to be effective 10/8/2023.

Filed Date: 8/9/23.

Accession Number: 20230809-5143.

Comment Date: 5 p.m. ET 8/30/23.

Docket Numbers: ER23-2601-000.

Applicants: Stony Creek Wind Farm, LLC.

Description: Compliance filing: Request for Waiver and Request for Expedited Consideration to be effective N/A.

Filed Date: 8/9/23.

Accession Number: 20230809-5156.

Comment Date: 5 p.m. ET 8/30/23.

Docket Numbers: ER23-2602-000.

Applicants:Blossburg Power, LLC, Brunot Island Power, LLC, Gilbert Power, LLC, Hamilton Power, LLC, Hunterstown Power, LLC, Mountain Power, LLC, New Castle Power, LLC, Orrtanna Power, LLC, Portland Power, LLC, Sayreville Power, LLC, Shawnee Power, LLC, Shawville Power, LLC, Titus Power, LLC, Tolna Power, LLC, Warren Generation, LLC.

Description: Blossburg Power LLC, et al. respectfully request a one-time, limited waiver of the 90-day prior notice requirement set forth in Schedule 2 to the PJM Interconnection, L.L.C. Open Access Transmission Tariff.

Filed Date: 8/9/23.

Accession Number: 20230809-5160.

Comment Date: 5 p.m. ET 8/30/23.

Docket Numbers: ER23-2603-000.

Applicants: Twelvemile Solar Energy, LLC.

Description: Request for Limited Waiver, et al. of Twelvemile Solar Energy, LLC.

Filed Date: 8/9/23.

Accession Number: 20230809-5177.

Comment Date: 5 p.m. ET 8/30/23.

Docket Numbers: ER23-2604-000.

Applicants: PJM Interconnection, L.L.C.

Description: Tariff Amendment: Notice of Cancellation of WMPA, SA No. 5695; Queue No. AF1-133 re: withdrawal to be effective 8/8/2023.

Filed Date: 8/10/23.

Accession Number: 20230810-5089.

Comment Date: 5 p.m. ET 8/31/23.

Take notice that the Commission received the following public utility holding company filings:

Docket Numbers: PH23-14-000.

Applicants: New Jersey Resources Corporation.

Description: New Jersey Resources Corporation submits FERC 65-A Exemption Notification.

Filed Date: 8/8/23.

Accession Number: 20230808-5134.

Comment Date: 5 p.m. ET 8/29/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: August 10, 2023.
Debbie-Anne A. Reese,
Deputy Secretary.

[FR Doc. 2023-17616 Filed 8-15-23; 8:45 am]

BILLING CODE 6717-01-P